SMALL BUSINESS ADMINISTRATION

[Declaration of Disaster #3559]

Commonwealth of Puerto Rico

As a result of the President's major disaster declaration on November 21, 2003, I find that the municipalities of Guanica, Guayama, Juana Diaz, Maunabo, Patillas, Rio Grande, Salinas, Santa Isabel and Yauco in the Commonwealth of Puerto Rico constitute a disaster area due to damages caused by severe storms, flooding, mudslides and landslides beginning on November 10, 2003 and continuing. Applications for loans for physical damage as a result of this disaster may be filed until the close of business on January 20, 2004, and for loans for economic injury until the close of business on August 23, 2004 at the address listed below or other locally announced locations:

U.S. Small Business Administration, Disaster Area 1 Office, 360 Rainbow Blvd., South, 3rd Floor, Niagara Falls, NY 14303.

In addition, applications for economic injury loans from small businesses located in the following contiguous municipalities may be filed until the specified date at the above location: Adjuntas, Aibonito, Arroyo, Canovanas, Cayey, Ceiba, Coamo, Guayanilla, Jayuya, Lajas, Lares, Las Piedras, Loiza, Luquillo, Maricao, Naguabo, Orocovis, Ponce, Sabana Grande, San Lorenzo, Villalba and Yabucoa in the Commonwealth of Puerto Rico.

The interest rates are:

| Percent
For Physical Damage: |
Homeowners With Credit Available Elsewhere | 6.250
Homeowners Without Credit Available Elsewhere | 3.125
Businesses With Credit Available Elsewhere | 6.123
Businesses and Non-Profit Organizations Without Credit Available Elsewhere | 3.061
Others (Including Non-Profit Organizations) With Credit Available Elsewhere | 4.875
For Economic Injury:
Businesses and Small Agricultural Cooperatives Without Credit Available Elsewhere | 3.061

The number assigned to this disaster is 355911 for physical damage and 9Y0600 for economic injury.

(Catalog of Federal Domestic Assistance Program Nos. 59002 and 59008.)
Dated: November 24, 2003.
Herbert L. Mitchell,
Associate Administrator for Disaster Assistance.

[FR Doc. 03-29875 Filed 12-1-03; 8:45 am]

BILLING CODE 8025-01-P